ENVIRONMENTAL PROTECTION AGENCY

[Docket No. EPA-R02-OAR-2008-0497; FRL-8694-3]

Adequacy Status of the Submitted 2008 and 2009 8-Hour Ozone Motor Vehicle Emission Budgets for Transportation Conformity Purposes for New Jersey

AGENCY: Environmental Protection Agency (EPA).

ACTION: Notice of Adequacy.

SUMMARY: In this notice, EPA is notifying the public that we have found that the motor vehicle emissions budgets for NOX and VOC in the submitted reasonable further progress and attainment demonstration state implementation plans for the New Jersey portions of the New York-Northern New Jersey-Long Island, NY-NJ-CT and Philadelphia-Wilmington-Atlantic City, PA-NJ-MD-DE 8-hour ozone nonattainment areas to be adequate for transportation conformity purposes. The transportation conformity rule (40 CFR part 93) requires that the EPA conduct a public process and make an affirmative decision on the adequacy of budgets before they can be used by metropolitan planning organizations in conformity determinations. As a result of our finding, the metropolitan planning organizations in New Jersey (the North Jersey Transportation Planning Authority, the Delaware Valley Regional Planning Commission, and the South Jersey Transportation Planning Organization) must use the new 2008 and 2009 8-hour ozone budgets for future transportation conformity determinations.

DATES: This finding is effective August 1, 2008.

FOR FURTHER INFORMATION CONTACT: Matthew Laurita, Air Programs Branch, Environmental Protection Agency—Region 2, 290 Broadway, 25th Floor, New York, New York 10007-1866, (212) 637-3895, laurita.matthew@epa.gov.

The finding and the response to comments will be available at EPA's conformity Web site: http://www.epa.gov/otaq/stateresources/transconf/adequacy.htm.

SUPPLEMENTARY INFORMATION:

Background

On October 29, 2007, New Jersey submitted reasonable further progress and attainment demonstration state implementation plans to EPA for both the New York-Northern New Jersey-Long Island, NY-NJ-CT (New York), and Philadelphia-Wilmington-Atlantic City, PA-NJ-MD-DE (Philadelphia), 8-hour ozone nonattainment areas. The purpose of New Jersey's submittal was to demonstrate New Jersey's progress toward attaining the 8-hour ozone National Ambient Air Quality Standard. New Jersey's submittal included motor vehicle emissions budgets (“budgets”) for 2008 and 2009 for use by the State's metropolitan planning organizations in making transportation conformity determinations. On March 19, 2008, the availability of these budgets was posted on EPA's Web site for the purpose of soliciting public comments. The comment period closed on April 18, 2008, and EPA received no comments.

Today's notice is simply an announcement of a finding that we have already made. EPA Region 2 sent a letter to New Jersey on June 9, 2008. The findings letter states that the 2008 motor vehicle emissions budgets in New Jersey's SIPs for both the New York and Philadelphia 8-hour ozone nonattainment areas are adequate because they are consistent with the required rate of progress plan. With regard to the 2009 motor vehicle emissions budgets, the findings letter states that these budgets are adequate for transportation conformity purposes because they provide for continued progress toward attainment of the 8-hour ozone standard. These budgets serve to strengthen the SIP through continued progress towards attainment and ensure that motor vehicle emissions remain consistent with the emissions levels provided for in the SIP. New Jersey submitted the budgets on October 29, 2007, as part of the reasonable further progress plans and 8-hour ozone attainment demonstrations for the New York and Philadelphia 8-hour ozone nonattainment areas. EPA's finding will also be announced on EPA's conformity Web site: http://www.epa.gov/otaq/stateresources/transconf/adequacy.htm.

Transportation conformity is required by section 176(c) of the Clean Air Act. EPA's conformity rule requires that transportation plans, programs, and projects conform to SIPs and establishes the criteria and procedures for determining whether or not they conform. Conformity to a SIP means that transportation activities will not produce new air quality violations, worsen existing violations, or delay timely attainment of the National Ambient Air Quality Standards.

The criteria by which we determine whether a SIP's motor vehicle emission budgets are adequate for conformity purposes are outlined in 40 CFR 93.118(e)(4). Please note that an adequacy review is separate from EPA's completeness review, and it also should not be used to prejudge EPA's ultimate approval of the SIP. Even if we find a budget adequate, the SIP could later be disapproved.

We have described our process for determining the adequacy of submitted SIP budgets in 40 CFR 93.118(f). We have followed this rule in making our adequacy determination. The motor vehicle emissions budgets being found adequate today are listed in Table 1.

Table 1.—8-Hour Ozone Motor Vehicle Emissions Budgets for New Jersey
[Tons per day]
Metropolitan Planning Organization | 2008: NOx | 2008: VOC | 2009: NOx | 2009: VOC
North Jersey Transportation Planning Authority (excluding Ocean County) | 143.60 | 85.38 | 133.39 | 79.00
North Jersey Transportation Planning Authority (Ocean County only) | 8.69 | 6.93 | 12.65 | 6.45
Delaware Valley Regional Planning Commission | 69.67 | 27.75 | 63.66 | 25.98
South Jersey Transportation Planning Organization | 32.93 | 14.14 | 29.64 | 13.04

Authority: 42 U.S.C. 7401-7671 q.

Dated: July 8, 2008.
Alan J. Steinberg,
Regional Administrator, Region 2.

[FR Doc. E8-16390 Filed 7-16-08; 8:45 am]

BILLING CODE 6560-50-P